DEPARTMENT OF THE INTERIOR

Bureau of Land Management

[LLCAD01000 L12200000.AL 0000]

Meeting of the Imperial Sand Dunes Recreation Area (ISDRA) Subgroup of the California Desert District Advisory Council

SUMMARY: Notice is hereby given, in accordance with Public Laws 92-463 and 94-579, that the Imperial Sand Dunes Recreation Area Subgroup of the California Desert District Advisory Council (DAC) to the Bureau of Land Management (BLM), U.S. Department of the Interior, will meet on Thursday, June 27, 2013, from 4 to 6 p.m. at the Bureau of Land Management (BLM) El Centro Field Office, 1661 S. 4th St., El Centro, CA 92243.

The meeting will provide the public an opportunity to discuss the final ISDRA business plan. The subgroup will also formulate recommendations for presentation to the DAC in July. Public safety will also be discussed. The ISDRA Subgroup discussions and public involvement assists the BLM in managing the ISDRA.

The ISDRA Subgroup operates under the authority of the DAC and provides input to the BLM regarding issues pertinent to the ISDRA.

SUPPLEMENTARY INFORMATION: All meetings of the DAC and subgroups of the DAC are open to the public. Written comments may be filed in advance of the meeting for the California Desert District Advisory Council ISDRA Subgroup, c/o Bureau of Land Management, External Affairs, 22835 Calle San Juan de Los Lagos, Moreno Valley, CA 92553 or dbriery@blm.gov. Written comments also are accepted at the time of the meeting and, if copies are provided to the recorder, will be incorporated into the minutes. In addition, a toll-free call-in number will be posted on www.blm.gov/ca/st/en/fo/elcentro/recreation/ohvs/isdra/dunesinfo/funding/isdradacsg.htm.

FOR FURTHER INFORMATION CONTACT: David Briery, BLM California Desert District External Affairs, (951) 697-5220.

Dated: June 12, 2013.
Teresa A. Raml,
District Manager, California Desert District.

[FR Doc. 2013-15049 Filed 6-21-13; 8:45 am]

BILLING CODE 4310-40-P